DEPARTMENT OF LABOR

Veterans' Employment and Training Service

Agency Information Collection Activities; Continued Collection; Comment Request: Vocational Rehabilitation and Employment Tracking Report; Jobs for Veterans State Grant Budget Information Summary; Jobs for Veterans State Grant Expenditure Detail Report; Jobs for Veterans State Grant Staffing Directory; Extension Without Revisions

AGENCY: Veterans' Employment and Training Service, U.S. Department of Labor.

ACTION: Notice.

SUMMARY: The Veterans' Employment and Training Service (VETS) is announcing an opportunity for public comment on the proposed collection of certain information by the agency. Under the Paperwork Reduction Act (PRA) of 1995, Federal agencies are required to publish notice in the Federal Register concerning each proposed collection of information and to allow 60 days for public comment in response to the notice. This notice solicits comments on five (5) separate collections of information: (1) VETS 201 entitled “Vocational Rehabilitation and Employment (Chapter 31) Tracking Report” and identified by VETS ICR No. 1293-0009 and OMB Control No. 1293-0009; (2) VETS 401 entitled “Jobs for Veterans State Grant Budget Information Summary” and identified by VETS ICR No. 1293-0009 and OMB Control No. 1293-0009; (3) VETS 402A/B entitled “Jobs for Veterans State Grant Expenditure Detail Report” and identified by VETS ICR No. 1293-0009 and OMB Control No. 1293-0009; and (4) VETS 501 entitled “Jobs for Veterans State Grant Staffing Directory” and identified by VETS ICR No. 1293-0009 and OMB Control No. 1293-0009. The information collection contained in this notice is an extension without revision. VETS is soliciting comments on the continuation of the approved information collections.

DATES: Submit written or electronic comments on the collection of information by November 26, 2012.

ADDRESSES: Submit comments on this collection of information by any of the following methods:

• By mail to: Joel H. Delofsky, Office of National Programs, U.S. Department of Labor, VETS, 230 South Dearborn, Suite 1064, Chicago, Illinois 60604-1777.

• Electronically to: delofsky.joel@dol.gov.

• By fax to: (312) 353-4943 (not a toll free number).

All comments should be identified with the OMB Control Number 1293-0009. Written comments should be limited to 10 pages or fewer. Receipt of comments will not be acknowledged but the sender may request confirmation that a submission has been received by telephoning VETS at (312) 353-4942 or via fax at (312) 353-4943.

FOR FURTHER INFORMATION CONTACT: Joel H. Delofsky, Office of National Programs, U.S. Department of Labor, VETS, 230 South Dearborn, Suite 1064, Chicago, Illinois 60604-1777, by email at delofsky.joel@dol.gov or by phone at (312) 353-4942. Copies of the proposed data collection instruments can be obtained from the contact listed above.

SUPPLEMENTARY INFORMATION: I. With respect to the continuation of the approved collection of information, VETS is particularly interested in comments on these topics:

(1) Whether the continued collection of information is necessary for the proper performance and oversight of the Jobs for Veterans State Grant, including whether the information will have practical utility;

(2) The accuracy of the VETS' estimate of the burden of the proposed collection of information;

(3) Ways to enhance the quality, utility, and clarity of the information to be collected; and

(4) Ways to minimize the burden of the collection of information on respondents, including through the use of automated collection techniques, when appropriate and other forms of information technology.

II. Comments are requested on one or more of the following ICRs:

(1) Title: Vocational Rehabilitation and Employment (Chapter 31) Tracking Report (VETS 201).

ICR numbers: VETS ICR No. 1293-0009, OMB Control No. 1293-0009.

ICR status: This ICR is for a continued information collection activity. An Agency may not conduct or sponsor, and a person is not required to respond to, a collection of information unless it displays a currently valid OMB control number. The OMB control numbers for VETS information collections are displayed on the applicable data collection instrument.

Abstract: VETS and the Department of Veterans Affairs Vocational Rehabilitation and Employment (VA VR&E) share a mutual responsibility for the successful readjustment of disabled veterans into the civilian workforce. Since August 1995, the two Federal Agencies have worked together under a Memorandum of Understanding to cooperate and coordinate services provided to veterans and transitioning service members referred to or completing a program of vocational rehabilitation authorized under Title 31, United States Code (hereinafter referred to as the Chapter 31 program).

To help Congress understand the status of new initiatives in the Department of Veterans Affairs, the Government Accountability Office (GAO) conducted a study and released Report Number GAO-07-0120: Disabled Veterans' Employment—Additional Planning, Monitoring, and Data Collection Efforts Would Improve Assistance. One of the findings encouraged the two agencies “to collect and assess complete information on the progress of the states in implementing the agreement using well-designed and appropriate methodology * * *.”

As a result of the GAO recommendations, a Joint Work Group was formed to establish and standardize processes to ensure disabled veterans participating in the Chapter 31 program achieve the ultimate goal of successful career transition and suitable long-term employment. The Joint Work Group refined processes and strengthened the team approach to serving these disabled veterans. Both Agencies jointly implemented the partnership nationally by issuing a Technical Assistance Guide that included a new data collection instrument.

The Vocational Rehabilitation & Employment (Chapter 31) Tracking Report (VETS 201) is designed to respond to the GAO finding by compiling information on disabled veterans jointly served by the VA, VETS and Jobs for Veterans State Grant recipients. All partners agree to share information exclusively to facilitate job development and placement services for participating veterans. The information is collected only with documented consent from veterans in accordance with the Privacy Act of 1974 and other applicable regulations and each agency will provide practical and appropriate safeguards to protect Personally Identifiable Information in accordance with applicable regulations and laws, including the Americans with Disabilities Act of 1990, the Rehabilitation Act of 1973 and reauthorizations, and Title VII of the Civil Rights Act of 1964.

The information is collected by the Jobs for Veterans State grant recipient and submitted to the state Director for Veterans' Employment and Training (DVET) once per Federal fiscal quarter.

(2) Title: Jobs for Veterans State Grant Budget Information Summary (VETS 401).

ICR numbers: VETS ICR No. 1293-0009, OMB Control No. 1293-0009.

ICR status: This ICR is for continued information collection activity. An Agency may not conduct or sponsor, and a person is not required to respond to, a collection of information unless it displays a currently valid OMB control number. The OMB control numbers for VETS information collections are displayed on the applicable data collection instrument.

Abstract: This form is used by Jobs for Veterans State Grant applicants to forecast annual grant spending by subprogram and by Federal fiscal year quarter. The one-page form illustrates a grantee's annual planned costs across the programs funded under the Jobs for Veterans State Grants. The proposed extension of the single form currently in use accommodates forecasted costs for all programs by Object Class Category and cash needs for each program by quarter.

The continued use of this data collection instrument is designed to streamline the collection of data needed and to reduce the current reporting burden on grantees. The information is required to be submitted once per Federal fiscal year as a condition of receiving Jobs for Veterans State Grant funds. Grant recipients are required to submit a revised form to request a modification to their existing grant if the modification affects funding of any program covered by the Jobs for Veterans State Grant.

(3) Title: Jobs for Veterans State Grant Expenditure Detail Report (VETS 402A or B).

ICR numbers: VETS ICR No. 1293-0009, OMB Control No. 1293-0009.

ICR status: This ICR is for a continued information collection activity. An Agency may not conduct or sponsor, and a person is not required to respond to, a collection of information unless it displays a currently valid OMB control number. The OMB control numbers for VETS information collections are displayed on the applicable data collection instrument.

Abstract: 38 U.S.C. 4102A(b)(5) requires the Assistant Secretary of Labor for Veterans' Employment and Training (ASVET) to make funds available to each State to staff and support multiple programs under the Jobs for Veterans State Grant: DVOP, LVER, and Performance Incentive Awards. The ASVET is also legislatively required to monitor and supervise the distribution and use of these funds on a continuing basis.

The Expenditure Detail Report (EDR) (VETS 402A or B) is used by Jobs for Veterans State Grant recipients to detail total expenditures by funding source to supplement the quarterly Federal Financial Report (FFR) which is used to report total grant spending and draw down of funds. To accommodate differences in States' accounting systems, two separate versions of the self-calculating EDR allow States to report either quarterly (VETS 402A) or cumulative expenditures (VETS 402B) each quarter. The EDR (VETS 402A or B) effectively cross-walks to both the FFR and the Jobs for Veterans State Grant Budget Information Summary (VETS 401) that details projected funding needs for each separate program awarded to States through the Jobs for Veterans State Grant.

VETS collects and compiles the EDR (VETS 402A or B) information to effectively monitor the use of Jobs for Veterans State Grant funds for each separate program purpose in accordance with the regulations at Title 29, § 97.41 a.3. The EDR requires States to report total expenditures for each funding source as well as the amounts expended for Personal Services and Personnel Benefits for each program. As a condition of receiving Jobs for Veterans State Grant funds, grantees are required to submit the EDR (VETS 402A or B) once per Federal fiscal quarter, including a fifth quarter if funds are obligated or expended in the quarter following the end of the fiscal year (when authorized in the annual appropriation). Any adjustments needed to reconcile funds reported for that quarter may be submitted separately in a final VETS 402 report due the following quarter.

(4) Title: Jobs for Veterans State Grant Staffing Directory (VETS 501).

ICR numbers: VETS ICR No. 1293-0009, OMB Control No. 1293-0009.

ICR status: This ICR is for a continued information collection activity. An Agency may not conduct or sponsor, and a person is not required to respond to, a collection of information unless it displays a currently valid OMB control number. The OMB control numbers for VETS information collections are displayed on the applicable data collection instrument.

Abstract: Jobs for Veterans State Grant applicants and grantees use the Jobs for Veterans State Grant Staffing Directory (VETS 501) to satisfy two grant requirements. First, grant applicants satisfy an assurance required by the Drug-Free Workplace Act of 1988, and implemented at 34 CFR Part 85, §§ 85.605 and 85.610 by listing the locations where grant-funded staff will be assigned. Second, grantees fulfill a requirement set forth in 38 U.S.C. Chapter 41 as amended by Section 103(a) of Public Law 111-275 by providing the name, assignment as a DVOP specialist or LVER, assignment as half-time or full-time, and date appointed to current position for all staff funded in whole or in part by the Jobs for Veterans State Grant. As amended, the statute requires each DVOP specialist and LVER to complete specialized training provided by the National Veterans' Training Institute (NVTI) within 18 months of assignment if appointed on or after October 13, 2010.

The proposed data collection instrument is designed to streamline the requirement for staffing information and to minimize the reporting burden on grantees. The information is required to be submitted once per Federal fiscal year as a condition of receiving Jobs for Veterans State Grant funds. Grantees will identify changes to staff assignments, if applicable, for each of the four Federal fiscal quarters and when requesting a modification to their existing grant if the modification affects staffing assignments.

Affected Public: Jobs for Veterans State Grant Applicants/Recipients (54); DVOP specialists and LVER staff (2,034)

Estimated Annual Burden:

(a) VETS 201: 16,000 Hours

(b) VETS 401: 79.5 Hours

(c) VETS 402A/B: 1,168 Hours

(d) VETS 501: 106 Hours

Estimated Average Burden per Respondent:

(a) VETS 201 (Proposed): 2 Hours, Range 1-3 Hours

(b) VETS 401 (Proposed): 1.5 Hours, Range 1-2 Hours

(c) VETS 402A or B (Proposed): 2 Hours, Range 1-3 Hours

(d) VETS 501 (Proposed): 2 Hours, Range 1-3 Hours

Frequency of Response: Annually and/or Quarterly.

Estimated Number of Respondents:

(a) VETS 201: 57

(b) VETS 401: 54

(c) VETS 402A or B: 54

(d) VETS 501: 54

Total Annualized Capital/startup costs: $0.

Total Initial Annual Costs: $0.

Comments submitted in response to this notice will be summarized and included in the agency's request for OMB approval of the information collection request. Comments will become a matter of public record.

Dated in Washington, DC, this 24th day of September 2012.
Ruth M. Samardick,
Director of National Programs.

[FR Doc. 2012-23836 Filed 9-26-12; 8:45 am]

BILLING CODE 4510-79-P